ENVIRONMENTAL PROTECTION AGENCY

[EPA-HQ-OW-2008-0719; FRL 9919-79-OEI]

Information Collection Request Submitted to OMB for Review and Approval; Comment Request; National Pollutant Discharge Elimination System (NPDES) Permits for Point Source Discharges From the Application of Pesticides to Waters of the United States

AGENCY: Environmental Protection Agency (EPA).

ACTION: Notice.

SUMMARY: The Environmental Protection Agency has submitted an information collection request (ICR), “National Pollutant Discharge Elimination System (NPDES) Permits for Point Source Discharges from the Application of Pesticides to Waters of the United States” (EPA ICR No. 2397.02, OMB Control No. 2040-0284) to the Office of Management and Budget (OMB) for review and approval in accordance with the Paperwork Reduction Act (44 U.S.C. 3501 et seq.). This is a proposed extension of the ICR, which is currently approved through Nov. 30, 2014. Public comments were previously requested via the Federal Register (79 FR 41548), on July 16, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before December 26, 2014.

ADDRESSES: Submit your comments, referencing Docket ID Number EPA-HQ-OW-2008-0719, to (1) EPA online using www.regulations.gov (our preferred method) or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Amelia Letnes, State and Regional Branch, Water Permits Division, OWM Mail Code: 4203M, Environmental Protection Agency, 1200 Pennsylvania Ave. NW., Washington, DC 20460; telephone number: (202) 564-5627; email address: letnes.amelia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: This ICR calculates the burden and costs associated with information collection and reporting activities from EPA and state NPDES general permits for point source discharges from the application of pesticides to waters of the United States. On November 27, 2006, EPA issued a final rule (hereinafter called the “2006 NPDES Pesticides Rule”) clarifying circumstances in which an NPDES permit was not required to apply pesticide to, or over, including near, waters of the U.S. On January 9, 2009, the Sixth Circuit Court vacated EPA's 2006 NPDES Pesticides Rule. As a result of the Court's decision, beginning October 31, 2011 NPDES permits were required for discharges to waters of the U.S. from the application of biological pesticides and chemical pesticides that leave a residue. Regulations governing permit requirements for NPDES discharges are codified at 40 CFR part 122. This ICR includes information submitted or recorded by permittees as well as information used primarily by permitting authorities. The permitting authority will use the information to assess permittee compliance and modify/add new permit requirements as appropriate. The estimated burden in this ICR is based on EPA's NPDES Pesticide General Permit (PGP).

Form Numbers: 6100-22, 6100-23, 6100-24, 6100-25, 6100-26.

Respondents/affected entities: Pesticide applicators.

Respondent's obligation to respond: mandatory (40 CFR 122).

Estimated number of respondents: 365,047 total (365,000 permittees, 47 permitting authorities [46 states and Virgin Islands]).

Frequency of response: varies from once, every 5 years, to occasionally as needed.

Total estimated burden: 834,756 hours (per year). Burden is defined at 5 CFR 1320.03(b).

Total estimated cost: $38,662,462 ($38,462,682 for permittees and $199,780 for permitting authorities), includes $0 annualized capital or O&M costs.

Changes in the Estimates: There is a decrease of 12,896 hours in the total estimated burden currently identified in the OMB Inventory of Approved ICR Burdens. EPA expects that the 2016 PGP will be similar to the 2011 PGP. All of the decrease in burden is attributable to the shift from the 2011 PGP to the 2016 PGP in year 3 of this ICR when permittees renewing their coverage would not need to develop a new Pesticide Discharge Management Plan.

Courtney Kerwin,
Acting Director, Collection Strategies Division.

[FR Doc. 2014-27817 Filed 11-24-14; 8:45 am]

BILLING CODE 6560-50-P